SECURITIES AND EXCHANGE COMMISSION

[File No. 500-1]

Avani International Group, Inc., Birch Mountain Resources Ltd., Capital Reserve Canada Ltd., Dynasty Gaming, Inc. (n/k/a Blue Zen Memorial Parks, Inc.), IXI Mobile, Inc., Laureate Resources & Steel Industries Inc., Millennium Energy Corp., Shannon International, Inc., and Welwind Energy International Corporation; Order of Suspension of Trading

May 15, 2013.

It appears to the Securities and Exchange Commission that there is a lack of current and accurate information concerning the securities of Avani International Group, Inc. because it has not filed any periodic reports since the period ended September 30, 2010.

It appears to the Securities and Exchange Commission that there is a lack of current and accurate information concerning the securities of Birch Mountain Resources Ltd. because it has not filed any periodic reports since the period ended December 31, 2007.

It appears to the Securities and Exchange Commission that there is a lack of current and accurate information concerning the securities of Capital Reserve Canada Ltd. because it has not filed any periodic reports since the period ended December 31, 2009.

It appears to the Securities and Exchange Commission that there is a lack of current and accurate information concerning the securities of Dynasty Gaming, Inc. (n/k/a Blue Zen Memorial Parks, Inc.) because it has not filed any periodic reports since the period ended December 31, 2007.

It appears to the Securities and Exchange Commission that there is a lack of current and accurate information concerning the securities of IXI Mobile, Inc. because it has not filed any periodic reports since the period ended June 30, 2008.

It appears to the Securities and Exchange Commission that there is a lack of current and accurate information concerning the securities of Laureate Resources & Steel Industries, Inc. because it has not filed any periodic reports since the period ended August 31, 2009.

It appears to the Securities and Exchange Commission that there is a lack of current and accurate information concerning the securities of Millennium Energy Corp. because it has not filed any periodic reports since the period ended September 30, 2009.

It appears to the Securities and Exchange Commission that there is a lack of current and accurate information concerning the securities of Shannon International, Inc. because it has not filed any periodic reports since the period ended September 30, 2006.

It appears to the Securities and Exchange Commission that there is a lack of current and accurate information concerning the securities of Welwind Energy International Corp. because it has not filed any periodic reports since the period ended September 30, 2010.

The Commission is of the opinion that the public interest and the protection of investors require a suspension of trading in the securities of the above-listed companies. Therefore, it is ordered, pursuant to Section 12(k) of the Securities Exchange Act of 1934, that trading in the securities of the above-listed companies is suspended for the period from 9:30 a.m. EDT on May 15, 2013, through 11:59 p.m. EDT on May 29, 2013.

By the Commission.
Lynn M. Powalski,
Deputy Secretary.

[FR Doc. 2013-11917 Filed 5-15-13; 4:15 pm]

BILLING CODE 8011-01-P